DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Administrative Reporting Form (ARF) for the Women, Co-occurring Disorders and Violence Cooperative Agreement Program (Phase II)—New—The Women, Co-occurring Disorders, and Violence Study is funded by SAMHSA's Center for Substance Abuse Treatment (CSAT), Center for Substance Abuse Prevention (CSAP), and Center for Mental Health Services (CMHS) to produce knowledge on the development and effectiveness of integrated services for women with co-occurring mental health and substance abuse disorders who are victims of violence. Fourteen sites were funded in Phase I, and ten sites are expected to be funded in Phase II. During Phase I of the study (2 years), sites developed integrated service models. In Phase II, sites that successfully reapplied will test their interventions in a multi-site outcome study contrasting comprehensive, integrated, trauma-specific and Consumer/Survivor/Recovering Person (C/S/R) involved services to services as usual.

The Administrative Reporting Form (ARF) is a program monitoring instrument which is to be completed jointly by the project director, project staff members, and directors of participating organizations at each study site annually. The ARF collects information about the staffing and governance of each project, project accomplishments in the previous year, and specific project components.

Information collected with the ARF will be used in three ways. First, evaluators will use information from the ARF to describe the process of project implementation at each of the study sites. This information will ultimately contribute to “how-to” knowledge products for communities attempting to integrate services. Second, site visiting teams will use information from the ARF in their assessments of the sites and will make recommendations to each site of how the site can improve its project. Third, descriptive information from the ARF will be used to characterize each site's intervention in terms of the players involved, the services provided, the manner in which those services are integrated, and the manner in which C/S/R persons are involved. These characterizations will inform the interpretation of the client-level data in the outcome study.

The estimated annual burden for these reporting requirements is summarized below.

Respondent type | Number of respondents | Responses/respondent | Burden/ response (hours) | Total burden hours
Project Directors | 10 | 1 | 10 | 100

Written comments and recommendations concerning the proposed information collection should be sent within 30 days of this notice to: Stuart Shapiro, Human Resources and Housing Branch, Office of Management and Budget, New Executive Office Building, Room 10235, Washington, DC 20503.

Dated: November 2, 2000.
Richard Kopanda,
Executive Officer, SAMHSA.

[FR Doc. 00-28609 Filed 11-8-00; 8:45 am]

BILLING CODE 4162-20-P